DEPARTMENT OF AGRICULTURE

Office of Partnerships and Public Engagement

[FOA No.: OPPE-014 & OPPE-016]

Funding Opportunity Announcement: Outreach and Assistance for Socially Disadvantaged Farmers and Ranchers and Veteran Farmers and Ranchers; Correction

AGENCY: Office of Partnerships and Public Engagement (OPPE), Agriculture (USDA).

ACTION: Funding Opportunity Announcement (FOA) for Fiscal Years 2020 and FY 2021; Correction.

SUMMARY: OPPE published a document in the Federal Register of July 13, 2020, concerning the availability of funds for two fiscal years (FY 2020 and FY 2021) and solicits applications from community-based and non-profit organizations, institutions of higher education, and Tribal entities to compete for financial assistance through the Outreach and Assistance for Socially Disadvantaged Farmers and Ranchers and Veteran Farmers and Ranchers Program (hereinafter referred to as the “2501 Program”). The document contained incorrect deadline to submit proposals. The deadline has been corrected to August 26, 2020.

FOR FURTHER INFORMATION CONTACT: U.S. Department of Agriculture, Office of Partnerships and Public Engagement, Attn: Kenya Nicholas, Program Director, Jamie L. Whitten Building, Room 520-A, 1400 Independence Avenue SW, Washington, DC 20250; Phone: (202) 720-6350; Fax: (202) 720-7704; Email: 2501grants@usda.gov.

SUPPLEMENTARY INFORMATION:

Correction

In the Federal Register of July 13, 2020, in FR Doc. 2020-14321, on page 41938, in the third column, correct the first three sentences of the DATES caption to read:

DATES: Only one project proposal may be submitted per eligible entity. Proposals must be submitted through http://www.grants.gov and received by August 26, 2020, at 11:59 p.m. EST. Proposals submitted after this deadline will not be considered for funding.

Signed this 23 day of June 2020.
Jacqueline Davis-Slay,
Deputy Director, Office of Partnerships and Public Engagement.

[FR Doc. 2020-15473 Filed 7-20-20; 8:45 am]

BILLING CODE 3412-89-P